INTERNATIONAL TRADE COMMISSION

[Investigation Nos. 731-TA-1141-1142 (Final)]

Uncovered Innerspring Units From South Africa and Vietnam

Determination

On the basis of the record ¹ developed in the subject investigations, the United States International Trade Commission (Commission) determines, pursuant to section 735(b) of the Tariff Act of 1930 (19 U.S.C. 1673d(b)) (the Act), that an industry in the United States is materially injured by reason of imports from South Africa and Vietnam of uncovered innerspring units, provided for in subheading 9404.29.90 of the Harmonized Tariff Schedule of the United States, that have been found by the Department of Commerce (Commerce) to be sold in the United States at less than fair value (LTFV).

¹ The record is defined in sec. 207.2(f) of the Commission's Rules of Practice and Procedure (19 CFR 207.2(f)).

Background

The Commission instituted these investigations effective December 31, 2007, following receipt of a petition filed with the Commission and Commerce by Leggett & Platt, Inc., Carthage, MO. The final phase of the investigations was scheduled by the Commission following notification of preliminary determinations by Commerce that imports of uncovered innerspring units from South Africa and Vietnam were being sold at LTFV within the meaning of section 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register of August 20, 2008 (73 FR 49219). The hearing was held in Washington, DC on October 22, 2008, and all persons who requested the opportunity were permitted to appear in person or by counsel.

The Commission transmitted its determination in this investigation to the Secretary of Commerce on December 4, 2008. The views of the Commission are contained in USITC Publication 4051 (December 2008), entitled Uncovered Innerspring Units from South Africa and Vietnam: Investigation Nos. 731-TA-1141-1142 (Final).

By order of the Commission.
Issued: December 4, 2008.
Marilyn R. Abbott,
Secretary to the Commission.

[FR Doc. E8-29161 Filed 12-9-08; 8:45 am]

BILLING CODE 7020-02-P